DEPARTMENT OF VETERANS AFFAIRS

38 CFR Parts 3 and 4

RIN 2900-AH21

Total Disability Ratings Based on Inability of the Individual To Engage in Substantially Gainful Employment

AGENCY: Department of Veterans Affairs.

ACTION: Withdrawal of proposed rule.

SUMMARY: In a document published in the Federal Register at 66 FR 49886 on October 1, 2001, the Department of Veterans Affairs (VA) proposed to amend those portions of its adjudication regulations and its Schedule for Rating Disabilities dealing with the issue of total disability ratings based on inability of the individual to engage in substantially gainful employment in claims for service-connected compensation or non-service-connected pension. This document withdraws that proposed rule.

DATES: The proposed rule is withdrawn as of December 23, 2005.

FOR FURTHER INFORMATION CONTACT: Beth Easter, Consultant, Policy and Regulations Staff, Compensation and Pension Service, Veterans Benefits Administration, 810 Vermont Ave., NW., Washington, DC 20420, telephone (202) 273-7141.

SUPPLEMENTARY INFORMATION: The purpose of VA's notice of proposed rulemaking was to clarify the procedures and substantive standards for determining whether a veteran's disabilities, although they do not meet the schedular requirements for a total disability rating, nonetheless prevent him or her from engaging in substantially gainful employment. The intended effect of the rulemaking was to ensure consistency of decisions concerning claims for total disability ratings based upon individual unemployability. VA has carefully considered the issues relating to the payment of benefits under the proposed rule and determined that it does not accomplish the stated purpose or intended effect. Accordingly, VA is withdrawing the proposal and is developing a new proposal, which it intends to publish at a later date.

Approved: December 14, 2005.
R. James Nicholson,
Secretary of Veterans Affairs.

[FR Doc. E5-7758 Filed 12-22-05; 8:45 am]

BILLING CODE 8320-01-P